DEPARTMENT OF THE TREASURY

Internal Revenue Service

Electronic Tax Administration Advisory Committee (ETAAC)

AGENCY: Internal Revenue Service (IRS), Treasury.

ACTION: Notice of open meeting.

SUMMARY: In 1998 the IRS established the Electronic Tax Administration Advisory Committee (ETAAC). The primary purpose of ETAAC is to provide an organized public forum for discussion of electronic tax administration issues in support of the overriding goal that paperless filing should be the preferred and most convenient method of filing tax and information returns. ETAAC offers constructive observations about current or proposed policies, programs, and procedures, and suggests improvements. A summary of the agenda along with the planned discussion topics is listed below.

Summarized Agenda

9 a.m. Meeting Opens

11:30 Break for Lunch

1:30 Meeting Adjourns

The planned discussion topics are as follows:

(1) Electronic Tax Administration and E-Z Tax-Filing Overview

(2) Plans for the 2003 Filing Season

(3) Path to 2007

(4) Tax Exempt and Government Entities Operating Division Update

Note: Last minute changes to these topics are possible and could prevent advance notice.

DATES: There will be a meeting of ETAAC on Wednesday, December 4, 2002. This meeting will be open to the public, and will be in a room that accommodates approximately 40 people, including members of ETAAC and IRS officials. Seats are available to members of the public on a first-come, first-served basis.

ADDRESSES: The meeting will be held in the Wyndham Washington Hotel, 1400 M Street, NW., Washington, DC 20005.

FOR FURTHER INFORMATION CONTACT: To get on the access list to attend this meeting, to have a copy of the agenda faxed to you or to receive general information about ETAAC contact Ms. Candice Cromling at (202) 283-0462 by November 29, 2002. Notification of intent should include your name, organization and phone number. If you leave this information for Ms. Cromling in a voice-mail message please spell out all names.

A draft of the agenda will be available via facsimile transmission the week prior to the meeting. Please call Ms. Cromling on or after Wednesday, November 27 to have a copy of the agenda faxed to you. Please note that a draft agenda will not be available until that date.

SUPPLEMENTARY INFORMATION: ETAAC reports to the Director, Electronic Tax Administration, who is the executive responsible for the electronic tax administration program. Increasing participation by external stakeholders in the development and implementation of the Internal Revenue Service's (IRS's) strategy for electronic tax administration will help achieve the goal that paperless filing should be the preferred and most convenient method of filing tax and information returns.

ETAAC members are not paid for their time or services, but consistent with Federal regulations, they are reimbursed for their travel and lodging expenses to attend the public meetings, working sessions, and an orientation each year.

Dated: November 20, 2002.
Terence H. Lutes,
Director, Electronic Tax Administration.

[FR Doc. 02-29919 Filed 11-22-02; 8:45 am]

BILLING CODE 4830-01-P